FEDERAL ELECTION COMMISSION

Sunshine Act Meeting

Agency: Federal Election Commission.

Date & Time: Tuesday, June 6, 2017 at 10:00 a.m. and its continuation at the conclusion of the open meeting on June 8, 2017.

Place: 999 E Street NW., Washington, DC.

Status: This meeting will be closed to the public.

Items to be Discussed: Compliance matters pursuant to 52 U.S.C. 30109. Matters concerning participation in civil actions or proceedings or arbitration.

* * * * *

Person to Contact for Information: Judith Ingram, Press Officer, Telephone: (202) 694-1220.

Laura E. Sinram,
Acting Deputy Secretary of the Commission.

[FR Doc. 2017-11479 Filed 5-30-17; 4:15 pm]

BILLING CODE 6715-01-P